DEPARTMENT OF DEFENSE

Office of the Secretary

[Docket ID: DOD-2018-OS-0033]

Notice of Availability of an Environmental Assessment Addressing Construction and Operation of a Fiscal Year 2019 General Purpose Warehouse at Defense Logistics Agency Distribution Red River, Texas

AGENCY: Defense Logistics Agency (DLA), Department of Defense.

ACTION: Notice of availability (NOA).

SUMMARY: DLA announces the availability of an Environmental Assessment (EA) documenting the potential environmental effects associated with the Proposed Action to construct and operate a Fiscal Year 2019 General Purpose Warehouse at DLA Distribution Red River, Texas, which is on Red River Army Depot.

DATES: The public comment period will end on July 9, 2018.

ADDRESSES: You may submit comments, identified by DOD-2018-OS-0033, to one of the following:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09, Alexandria, VA 22350-1700.

FOR FURTHER INFORMATION CONTACT: Ira Silverberg at 571-767-0705 during normal business hours Monday through Friday, from 8:00 a.m. to 4:30 p.m. (EDT) or by email: ira.silverberg@dla.mil.

SUPPLEMENTARY INFORMATION: The EA has been prepared as required under the National Environmental Policy Act (NEPA), 32 Code of Federal Regulations part 651, Environmental Analysis of Army Actions, and DLA Regulation 1000.22, Environmental Considerations in Defense Logistics Agency Actions.

The environmental assessment posted to the docket provides additional information about the proposed action.

Dated: May 29, 2018.
Shelly E. Finke,
Alternate OSD Federal Register Liaison Officer, Department of Defense.

[FR Doc. 2018-12326 Filed 6-7-18; 8:45 am]

BILLING CODE 5001-06-P